DEPARTMENT OF ENERGY

Federal Energy Regulatory Commission

Combined Notice of Filings #1

Take notice that the Commission received the following electric corporate filings:

Docket Numbers: EC14-46-000.

Applicants: MACH Gen, LLC, Millennium Power Partners, L.P., New Athens Generating Company, LLC, New Harquahala Generating Company, LLC.

Description: Application for Section 203 Authorization of MACH Gen, LLC, et al.

Filed Date: 1/24/14.

Accession Number: 20140124-5223.

Comments Due: 5 p.m. ET 2/14/14.

Docket Numbers: EC14-47-000.

Applicants: Verso Paper Corp., Verso Merger Sub Inc., NewPage Corporation, NewPage Public Utilities.

Description: Joint Application for Approval under Section 203 of the Federal Power Act of Verso Paper Corp., et al.

Filed Date: 1/24/14.

Accession Number: 20140124-5225.

Comments Due: 5 p.m. ET 2/14/14.

Take notice that the Commission received the following exempt wholesale generator filings:

Docket Numbers: EG14-23-000.

Applicants: Maine GenLead, LLC.

Description: Notice of Self-Certification of Exempt Wholesale Generator Status of Maine GenLead, LLC.

Filed Date: 1/24/14.

Accession Number: 20140124-5175.

Comments Due: 5 p.m. ET 2/14/14.

Docket Numbers: EG14-24-000.

Applicants: Evergreen Wind Power II, LLC.

Description: Notice of Self-Certification of Exempt Wholesale Generator Status of Evergreen Wind Power II, LLC.

Filed Date: 1/24/14.

Accession Number: 20140124-5176.

Comments Due: 5 p.m. ET 2/14/14.

Take notice that the Commission received the following electric rate filings:

Docket Numbers: ER10-3319-012.

Applicants: Astoria Energy II LLC.

Description: Notice of Non-Material Change in Status of Astoria Energy II LLC.

Filed Date: 1/24/14.

Accession Number: 20140124-5210.

Comments Due: 5 p.m. ET 2/14/14.

Docket Numbers: ER13-1896-004; ER14-870-000; ER14-871-000; ER14-872-000; ER14-869-000; ER14-868-000; ER14-867-000; ER14-594-001.

Applicants: AEP Generation Resources Inc., AEP Operating Companies, AEP Energy Partners, Inc., CSW Energy Services, Inc., CSW Operating Companies, AEP Retail Energy Partners LLC, AEP Energy, Inc., Ohio Power Company.

Description: American Electric Power Service Corporation (AEP Operating companies) submits work papers of Julie Carey and Ben Ullman prepared in support of the Notice of Material Change in Status and Amended Market Based Rate Tariffs.

Filed Date: 1/23/14.

Accession Number: 20140124-0022.

Comments Due: 5 p.m. ET 2/13/14.

Docket Numbers: ER14-281-001.

Applicants: Midcontinent Independent System Operator, Inc.

Description: 11-12-13 Credit Clean-up Amendment Att L to be effective 2/1/2014.

Filed Date: 11/12/13.

Accession Number: 20131112-5245.

Comments Due: 5 p.m. ET 2/6/14.

Docket Numbers: ER14-829-002.

Applicants: KCP&L Greater Missouri Operations Company.

Description: Errata to Amendment to SPP Tariff Filing to be effective 3/1/2014.

Filed Date: 1/24/14.

Accession Number: 20140124-5110.

Comments Due: 5 p.m. ET 2/14/14.

Docket Numbers: ER14-1151-000.

Applicants: Maine GenLead, LLC.

Description: Filing of Facilities Use Agreement and Request for Waivers and Blanket Approval to be effective 3/26/2014.

Filed Date: 1/24/14.

Accession Number: 20140124-5152.

Comments Due: 5 p.m. ET 2/14/14.

Docket Numbers: ER14-1152-000.

Applicants: Trans-Allegheny Interstate Line Company, Pennsylvania Electric Company, PJM Interconnection, L.L.C.

Description: TrAILCo and Penelec submit Original SA No. 3743 and Request Expedited Review to be effective 2/10/2014.

Filed Date: 1/24/14.

Accession Number: 20140124-5168.

Comments Due: 5 p.m. ET 2/14/14.

Docket Numbers: ER14-1153-000.

Applicants: Verso Androscoggin Power LLC.

Description: Androscoggin Power—Application for MBR Authority to be effective 2/27/2014.

Filed Date: 1/24/14.

Accession Number: 20140124-5183.

Comments Due: 5 p.m. ET 2/14/14.

Docket Numbers: ER14-1154-000.

Applicants: Verso Bucksport Power LLC.

Description: Bucksport Power—Application for MBR Authority to be effective 2/27/2014.

Filed Date: 1/24/14.

Accession Number: 20140124-5192.

Comments Due: 5 p.m. ET 2/14/14.

Docket Numbers: ER14-1155-000.

Applicants: PJM Interconnection, L.L.C.

Description: Request for Limited Tariff Waiver and Expedited Commission Action of PJM Interconnection, L.L.C.

Filed Date: 1/24/14.

Accession Number: 20140124-5215.

Comments Due: 5 p.m. ET 2/7/14.

Docket Numbers: ER14-1156-000.

Applicants: Wisconsin Public Service Corporation.

Description: WPSC and Marshfield Letter Agreement to be effective 1/24/2014.

Filed Date: 1/27/14.

Accession Number: 20140127-5039.

Comments Due: 5 p.m. ET 2/18/14.

Docket Numbers: ER14-1157-000.

Applicants: Wolverine Power Supply Cooperative, Inc.

Description: Normal filing schedule no 17 to be effective 3/28/2014.

Filed Date: 1/27/14.

Accession Number: 20140127-5085.

Comments Due: 5 p.m. ET 2/18/14.

Docket Numbers: ER14-1158-000.

Applicants: Wyoming Colorado Intertie, LLC.

Description: Order No. 764 Compliance Filing to be effective 1/28/2014.

Filed Date: 1/27/14.

Accession Number: 20140127-5091.

Comments Due: 5 p.m. ET 2/18/14.

Docket Numbers: ER14-1159-000.

Applicants: Midcontinent Independent System Operator, Inc.

Description: 2014_01_27_SA 2524 ITC-DTE ELECTRIC AMENDED GIA (J235) to be effective 1/28/2014.

Filed Date: 1/27/14.

Accession Number: 20140127-5113.

Comments Due: 5 p.m. ET 2/18/14.

Take notice that the Commission received the following electric securities filings:

Docket Numbers: ES14-24-000.

Applicants: Southwestern Electric Power Company.

Description: Application of Southwestern Electric Power Company under Section 204 of the Federal Power Act for Authorization to Issue Securities.

Filed Date: 1/24/14.

Accession Number: 20140124-5217.

Comments Due: 5 p.m. ET 2/14/14.

Take notice that the Commission received the following land acquisition reports:

Docket Numbers: LA13-4-000.

Applicants: Alabama Electric Marketing, LLC, Astoria Generating Company, L.P., Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of the Tenaska MBR Sellers.

Filed Date: 1/24/14.

Accession Number: 20140124-5207.

Comments Due: 5 p.m. ET 2/14/14.

Docket Numbers: LA13-4-000.

Applicants: Brayton Point Energy, LLC, Broad River Energy LLC, Dighton Power, LLC, Elwood Energy LLC, Empire Generating Co, LLC, EquiPower Resources Management, LLC, Kincaid Generation, L.L.C., Lake Road Generating Company, L.P., Liberty Electric Power, LLC, MASSPOWER, Milford Power Company, LLC, Richland-Stryker Generation LLC.

Description: Quarterly Land Acquisition Report of the ECP MBR Sellers.

Filed Date: 1/27/14.

Accession Number: 20140127-5087.

Comments Due: 5 p.m. ET 2/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2014.
Nathaniel J. Davis, Sr.,
Deputy Secretary.

[FR Doc. 2014-02239 Filed 2-3-14; 8:45 am]

BILLING CODE 6717-01-P